DEPARTMENT OF AGRICULTURE

Food and Nutrition Service

Agency Information Collection Activities: Produce Safety University Nomination and Course Evaluation

AGENCY: Food and Nutrition Service (FNS), USDA.

ACTION: Notice.

SUMMARY: In accordance with the Paperwork Reduction Act of 1995, this notice invites the general public and other public agencies to comment on this proposed information collection. This collection is a new collection for notification of Produce Safety University annual training to State agencies and nomination of participants to attend Produce Safety University.

DATES: Written comments must be received on or before July 5, 2022.

ADDRESSES: Comments may be sent to: Emma Kingsbury, Food and Nutrition Service, U.S. Department of Agriculture, 1320 Braddock Place, Alexandria, VA 22314. Comments may also be submitted via fax to the attention of Emma Kingsbury at 703-305-2955 or via email to emma.kingsbury@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Emma Kingsbury at 703-305-2955.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Produce Safety University Nomination and Course Evaluation.

Form Number: None.

OMB Number: 0584-NEW.

Expiration Date: To be determined.

Type of Request: New collection.

Abstract: Produce Safety University (PSU) is a training course designed to help child nutrition professionals identify and manage food safety risks associated with fresh produce. The PSU course is designed to be a train-the-trainer immersion course, where participants are expected to conduct further training with their peers using the information they obtain during PSU. The PSU curriculum covers all aspects of the fresh produce procurement chain, from growing and harvesting to storage and preparation through a combination of lecture, laboratory, and field-trip instruction. PSU was not held in 2020 due to the COVID-19 pandemic; during 2021 PSU transitioned to a virtual course, which included pre-recorded field-trip and laboratory components that participants were able to view these aspects virtually, while maintaining the full experience of PSU. Looking forward, PSU will likely continue through a hybrid approach, with both in-person sessions and virtual sessions offered annually.

The purpose of the proposed collection of information is twofold. The first is to electronically collect course nomination from child nutrition professionals and State agency staff to attend Produce Safety University (PSU). State agencies may nominate individuals to attend PSU and receive annual logistic information through a letter from FNS. The letter to States includes a link to the online course nomination. While nomination is voluntary, if a participant wishes to attend Produce Safety University, completion of the course nomination is mandatory. To ensure that PSU provides the most appropriate training content that is tailored to the audience, it is necessary to know the occupational make-up of each training co-hort. Therefore, job titles and the name of the organization nominees represent will be collected. Collecting this information on the course nomination will ensure that the Office of Food Safety offers this training opportunity equally among each of the States and seven FNS Regions. Additional contact information is needed from participants to support their learning experience; when PSU training sessions are held virtually, physical course materials are shipped to each participant. These materials include slides, activities, and supplemental print resources, making address collection necessary.

The second aspect of the proposed collection of information involves program evaluation. The program evaluation involves three instruments, each designed to collect specific information from respondents at specific times. The Welcome Questions are given to confirmed PSU participants to assess where the training cohort lies in terms of knowledge and experience, which allows for the training team to make minor changes based on the foundational knowledge a group may have. The Course Evaluation involves questions following each session of PSU to assess if the session achieved its objective, and whether or not the time allotted was sufficient. The Course Evaluation also addresses how effective the training team and resources were in helping PSU participants grasp all information taught in the course. This information is crucial to ensure PSU is satisfying participants' expectations and supporting Child Nutrition program operators with accurate and helpful information. The Program Impact Evaluation is used to measure how the PSU courses have impacted participants six months after their completion of PSU. Since PSU is designed to be a train-the-trainer course, determining if graduates taught others on topics learned in PSU is essential to further the mission of the course. The Program Impact Evaluation is also used to inform resource development to support graduates in their efforts to train others on topics learned in PSU.

The Nomination Form for Produce Safety University (FNS-909) is currently approved under OMB# 0584-0611 FNS Fast Track Clearance for the Collection of Routine Customer Feedback, which expires on September 30, 2022. This fast track clearance is meant for one-time collections of customer feedback on a variety of programs. Since the original submission, FNS has decided that this will be an ongoing collection, so we are now seeking approval for this under a new OMB control number. FNS has also made changes to the collection since the original submission. Under OMB# 0584-0611, this collection has two instruments, the FNS-909 and a sample State Agency Letter, with a total of 218 responses and 55 burden hours. FNS has made a number of changes as part of this new collection. These changes include the following: The FNS-909 is no longer the most appropriate instrument to collect the information from participants, and the new collection will not use the FNS-909. The proposed collection includes new questions outside of the FNS-909 scope. The new questions are necessary to determine nominee eligibility for training participation. We have also updated the course nomination from a paper to online format.

Affected Public: State, Local, and Tribal governments. Respondent groups identified include: (1) Child Nutrition program operators and (2) State agency staff.

Estimated Number of Respondents: The annual number of respondents is two-fold since those completing the course evaluations are a subset of those who completed the nomination form. The number of respondents to the State agency letter and nomination form is 285. This includes: 155 child nutrition professionals and 130 State agency staff. Approximately half of the State agency staff read the letter but complete no further components of the collection. The course evaluations (welcome questions, course evaluations, and program impact evaluations) will be completed by a subset of respondents to the course nomination who were selected for participation in PSU. The total number of unique respondents for this collection is 285.

Estimated Number of Responses per Respondent: Each respondent will be asked to complete the nomination information one time. Respondents are asked to complete all three program evaluation instruments, however, since participation is voluntary, few participants choose to respond to all three program evaluation components. Because of this, FNS estimates that the frequency for the requirements in this collection will mainly be 1, although it may range anywhere from 1 to 4, depending on how many of the optional evaluation instruments the respondent decides to complete. Overall, FNS estimates that the number of responses per respondents across the entire collection is 2.256.

Estimated Total Annual Responses: 643 total annual responses. Following the course nomination, respondents may choose to voluntarily respond to other instruments (Welcome Questions, Course Evaluation, and Program Impact Evaluation). Therefore, the total number of responses across all instruments does not equal the number of unique respondents (see estimated annual burden table below for response breakdown).

Estimated Time per Response: The estimated time of response is 5 minutes (0.083 hours) for the State agency letter, 15 minutes (0.25 hours) for the course nomination, 10 minutes (0.167 hours) for Welcome Questions, 15 minutes for Course Evaluation, and 20 minutes (0.334 hours) for Program Impact Evaluation as shown in the table below. This is an annual average time of approximately 13 minutes (0.214 hours) per respondent across all of the items in the collection.

Estimated Total Annual Burden on Respondents: 138 hours. See the table below for estimated total annual burden for each type of respondent.

Respondent | Estimated number respondent | Responses annually per respondent | Total annual responses (Col. bxc) | Estimated avg. number of hours per response | Estimated total hours (Col. dxe)
Reporting Burden
CN program operators—Course Nomination | 155 | 1.00 | 155 | 0.25 | 38.8
CN program operators—Welcome Questions * | 69 | 1.00 | 69 | 0.167 | 11.5
CN program operators—Course Evaluation * | 98 | 1.00 | 98 | 0.25 | 24.5
CN program operators—Program Impact Evaluation * | 57 | 1.00 | 57 | 0.334 | 19.0
Subtotal for Child Nutrition Program Operators | 155 | 2.44516129 | 379 | 0.247522427 | 93.8
State agency—Stage Agency Letter | 130 | 1.00 | 130 | 0.0835 | 10.8
State agency—Course Nomination ** | 65 | 1.00 | 65 | 0.25 | 16.3
State agency—Welcome Questions ** | 21 | 1.00 | 21 | 0.167 | 3.5
State agency—Course Evaluation ** | 31 | 1.00 | 31 | 0.25 | 7.8
Stage agency—Program Impact Evaluation ** | 17 | 1.00 | 17 | 0.334 | 5.7
Subtotal for State Agency Staff | 130 | 2.030769231 | 264 | 0.166609848 | 44.0
Total for State, Local, or Tribal Government | 285 | 2.256140351 | 643 | 0.214301711 | 137.8
Total Reporting Burden | 285 | 2.256 | 643 | 0.214 | 138
* Indicates that the respondents are a subset of those responding to the course nomination and are not unique responses. There are 155 unique CN program operator respondents.
** Indicates that the respondents are a subset of those receiving the State Agency Letter and are not unique responses. There are 130 unique State agency respondents.

Cynthia Long,
Administrator, Food and Nutrition Service.

[FR Doc. 2022-09529 Filed 5-3-22; 8:45 am]

BILLING CODE 3410-30-P